DEPARTMENT OF THE TREASURY

Office of Foreign Assets Control

Sanctions Actions Pursuant to Executive Order 13667

AGENCY: Office of Foreign Assets Control, Treasury.

ACTION: Notice.

SUMMARY: The Treasury Department's Office of Foreign Assets Control (OFAC) is publishing the names of two individuals whose property and interests in property are blocked pursuant to Executive Order (E.O.) 13667 and whose names have been added to OFAC's list of Specially Designated Nationals and Blocked Persons (SDN List).

DATES: OFAC's actions described in this notice were effective on April 12, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The SDN List and additional information concerning OFAC sanctions programs are available from OFAC's Web site (www.treasury.gov/ofac).

Notice of OFAC Actions

On April 12, 2017, OFAC blocked the property and interests in property of the following individuals pursuant to E.O. 13667, “Blocking Property of Certain Persons Contributing to the Conflict in the Central African Republic”:

1. HISSENE, Abdoulaye (a.k.a. ABDOULAYE, Hissene; a.k.a. ABDOULAYE, Issene; a.k.a. HISSEIN, Abdoulaye; a.k.a. ISSENE, Abdoulaye (Latin: ISSÈNE., Abdoulaye); a.k.a. RAMADANE, Abdoulaye Issene (Latin: RAMADANE, Abdoulaye Issène)), KM5, Bangui, Central African Republic; Ndele, Bamingui-Bangoran Prefecture, Central African Republic; DOB 1967; POB Ndele, Bamingui-Bangoran Prefecture, Central African Republic; nationality Central African Republic; Gender Male; Passport D00000897 (Central African Republic) issued 05 Apr 2013 expires 04 Apr 2018 (individual) [CAR].

2. MOKOM, Maxime (a.k.a. GAWAKA, Maxime Eli Jeoffroy Mokom; a.k.a. GAWAKA, Maxime Mokom; a.k.a. MOCOM, Maxime; a.k.a. MOKOM, Gawaka; a.k.a. MOKOM, Maxim; a.k.a. MOKOME, Maxime; a.k.a. MOKOM-GAWAKA, Maxime Jeoffroy Eli; a.k.a. MOKOUM, Maxime; a.k.a. “Colonel Rock”), Boy-Rabe, Bangui, Central African Republic; DOB 30 Dec 1978; POB Bangui, Central African Republic; nationality Central African Republic; Gender Male; Passport O00006983 (Central African Republic) expires 02 Feb 2017 (individual) [CAR].

Dated: April 12, 2017.
Andrea Gacki,
Acting Director, Office of Foreign Assets Control.

[FR Doc. 2017-07710 Filed 4-14-17; 8:45 am]

BILLING CODE 4810-AL-P